NATIONAL TRANSPORTATION SAFETY BOARD

Sunshine Act Meeting; Agenda

TIME AND DATE: 9:30 a.m., Tuesday, April 24, 2012.

PLACE: NTSB Conference Center, 429 L'Enfant Plaza SW., Washington, DC 20594.

STATUS: The TWO items are open to the public.

MATTERS TO BE CONSIDERED:

8225A Marine Accident Report—Allision of Passenger Ferry Andrew J. Barberi With St. George Terminal, Staten Island, New York, May 8, 2010.

8400 Railroad Accident Report—Collision of BNSF Coal Train With the Rear End of Standing BNSF Maintenance-of-Way Equipment Train, Red Oak, Iowa, April 17, 2011 (DCA-11-FR-002)

NEWS MEDIA CONTACT: Telephone: (202) 314-6100.

The press and public may enter the NTSB Conference Center one hour prior to the meeting for set up and seating.

Individuals requesting specific accommodations should contact Rochelle Hall at (202) 314-6305 by Friday, April 20, 2012.

The public may view the meeting via a live or archived webcast by accessing a link under “News & Events” on the NTSB home page at www.ntsb.gov.

Schedule updates including weather-related cancellations are also available at www.ntsb.gov.

FOR FURTHER INFORMATION CONTACT: Candi Bing, (202) 314-6403 or by email at bingc@ntsb.gov.

Dated: April 16, 2012.
Candi R. Bing,
Federal Register Liaison Officer.

[FR Doc. 2012-9507 Filed 4-17-12; 4:15 pm]

BILLING CODE 7533-01-P